DEPARTMENT OF HEALTH AND HUMAN SERVICES

Centers for Disease Control and Prevention

[Program Announcement 04082]

Communication and Technical Assistance Support for HIV/AIDS Prevention Programs; Notice of Intent To Fund Single Eligibility Award

A. Purpose

The Centers for Disease Control and Prevention (CDC) announces the intent to fund fiscal year (FY) 2004 funds for a cooperative agreement program for support of CDC HIV related policies and programs by facilitating communication and problem solving with State and territorial health department HIV/AIDS Directors and providing technical assistance (TA) to them. The Catalog of Federal Domestic Assistance number for this program is 93.941.

B. Eligible Applicant

Assistance will be provided only to the National Alliance of State and Territorial AIDS Directors (NASTAD). No other applications are solicited or will be accepted.

NASTAD is the appropriate and only qualified agency to provide the services specified under this cooperative agreement because:

• The activities supported under this cooperative agreement can only be provided by an organization that formally represents the interests of the HIV/AIDS Program Directors of State and territorial health departments.

• NASTAD is the only officially established organization that represents the State and Territorial AIDS Directors in all 50 States and all U.S. Territories. NASTAD was formed by the States to represent their interests to other government agencies.

• NASTAD draws upon its membership to provide input on the development and implementation of HIV policies and programs. It is able to facilitate multi-jurisdictional involvement on these issues. NASTAD regularly keeps its members informed about relevant issues.

• NASTAD members provide peer-to-peer assistance on the implementation of new policies and programs. These members share their experience so other State programs can benefit.

C. Funding

Approximately $1,368,662 is available in FY 2004 to fund this award. It is expected that the award will begin on or before April 1, 2004, and will be made for a 12-month budget period within a project period of up to 5 years. Funding estimates may change.

D. Where to Obtain Additional Information

For general comments or questions about this announcement, contact: Technical Information Management, CDC Procurement and Grants Office, 2920 Brandywine Road, Atlanta, GA 30341-4146, Telephone: 770-488-2700.

For technical questions about this program, contact:

Bob Kohmescher, Project Officer, Centers for Disease Control and Prevention, National Center for HIV, STD and TB Prevention (NCHSTP), Division for HIV/AIDS Prevention, 1600 Clifton Road, Mailstop E-35, Telephone: 404-639-1614, E-mail: rnk1@cdc.gov.

Dated: March 19, 2004.
Edward Schultz,
Acting Director, Procurement and Grants Office, Centers for Disease Control and Prevention.

[FR Doc. 04-6676 Filed 3-24-04; 8:45 am]

BILLING CODE 4163-18-P